DEPARTMENT OF COMMERCE

National Oceanic and Atmospheric Administration

RIN 0648-XH090

Pacific Fishery Management Council; Public Meeting

AGENCY: National Marine Fisheries Service (NMFS), National Oceanic and Atmospheric Administration (NOAA), Commerce.

ACTION: Notice of public meetings.

SUMMARY: The Pacific Fishery Management Council's (Pacific Council) Southern Resident Killer Whale (SRKW) Workgroup (Workgroup) will convene two meetings via webinar, which are open to the public.

DATES: The first meeting, to be held via webinar, will convene on Tuesday, August 6, 2019, from 10 a.m. to 2 p.m. Pacific Daylight Time (PDT), or until business for the day has been completed.

The second meeting, to be held via webinar, will convene Wednesday, September 4, 2019, from 10 a.m. to 2 p.m. PDT, or until business for the day has been completed.

ADDRESSES: These meetings will be held via webinar. A public listening station is available at the Pacific Council office (address below). To attend the webinar (1) join the webinar by visiting this link https://www.gotomeeting.com/webinar (click “Join a Webinar” in top right corner of page), (2) enter the Webinar ID: 687-012-435, and (3) enter your name and email address (required). After logging in to the webinar, please (1) dial this TOLL number 1-(631) 992-3221 (not a toll-free number), (2) enter the attendee phone audio access code 972-015-065, and (3) enter the provided audio PIN after joining the webinar. You must enter this PIN for audio access. Note: We have disabled Mic/Speakers as an option and require all participants to use a telephone or cell phone to participate. Technical Information and system requirements: PC-based attendees are required to use Windows® 10, 8, 7, Vista, or XP; Mac®-based attendees are required to use Mac OS® X 10.5 or newer; Mobile attendees are required to use iPhone®, iPad®, Android™ phone or Android tablet (See https://www.gotomeeting.com/webinar/ipad-iphone-android-webinar-apps.) You may send an email to Mr. Kris Kleinschmidt at Kris.Kleinschmidt@noaa.gov or contact him at 503-820-2280, extension 419 for technical assistance.

Council address: Pacific Fishery Management Council, 7700 NE Ambassador Place, Suite 101, Portland, OR 97220.

FOR FURTHER INFORMATION CONTACT: Robin Ehlke, Pacific Council; telephone: (503) 820-2410.

SUPPLEMENTARY INFORMATION: The purpose of the August 6 webinar is to discuss the development of the a draft risk analysis, identify remaining data needs, and follow up on assignments and discussions from the Workgroup's previous meetings; the September 4 webinar will focus mainly on finalizing the draft risk analysis in preparation for the Pacific Council meeting in September in Boise, ID. At both of these meetings, the Workgroup may also discuss work plans, recommendations to the Council regarding future meeting planning, and progress made on assigned tasks related to the Workgroup's prime objective of reassessing the effects of Council-area ocean salmon fisheries on the Chinook salmon prey base of SRKW. This is a public meeting and not a public hearing. Public comments will be taken at the discretion of the Workgroup co-chairs as time allows. Agendas and meeting notices can be found on the Council's website at pcouncil.org.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

These meetings are physically accessible to people with disabilities. Requests for sign language interpretation or other auxiliary aids should be directed to Mr. Kris Kleinschmidt, (503) 820-2411, at least 10 business days prior to the meeting date.

Dated: July 9, 2019.
Tracey L. Thompson,
Acting Deputy Director, Office of Sustainable Fisheries, National Marine Fisheries Service.

[FR Doc. 2019-14899 Filed 7-12-19; 8:45 am]

BILLING CODE 3510-22-P